DEPARTMENT OF AGRICULTURE

Animal and Plant Health Inspection Service

[Docket No. APHIS-2007-0147]

National Animal Identification System; User Guide and Additional Information Resources

AGENCY: Animal and Plant Health Inspection Service, USDA.

ACTION: Notice of availability and request for comments.

SUMMARY: We are advising the public that we are have prepared a revised version of the National Animal Identification System (NAIS) User Guide that was originally released in draft form in November 2006. The revised User Guide contains the most current information on how the system works and how producers may participate in the NAIS. We are making the revised User Guide available for review and comment.

ADDRESSES: The revised User Guide is available on the Internet at http://animalid.aphis.usda.gov/nais/. The document may also be viewed in our reading room. The reading room is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Adam Grow, Director, Surveillance and Identification Programs, National Center for Animal Health Programs, VS, APHIS, 4700 River Road Unit 200, Riverdale, MD 20737-1231; (301) 734-3752.

SUPPLEMENTARY INFORMATION:

Background

In November 2006, the Animal and Plant Health Inspection Service (APHIS) prepared a document entitled “National Animal Identification System (NAIS): A User Guide and Additional Information Resources.” The document, also known as the Draft User Guide, was intended to provide comprehensive information about the NAIS for people and entities wishing to participate in the system, which is voluntary at the Federal level.

We originally posted the Draft User Guide on the NAIS Internet Web site (http://animalid.aphis.usda.gov/nais/) in November 2006. Subsequently, we developed two technical guidance documents to supplement the Draft User Guide. A notice announcing the availability of all three documents for public review and comment was published in the Federal Register on February 1, 2007 (72 FR 4680-4681, Docket No. APHIS-2007-0007).

In the February 2007 notice, we stated that the Draft User Guide replaced all previously published program documents, including the 2005 Draft Strategic Plan and Draft Program Standards (announced at 70 FR 23961-23963, May 6, 2005) and the 2006 NAIS Implementation Plan (announced at 71 FR 17805-17806, April 7, 2006). Those earlier documents had provided the opportunity for the public to comment on the NAIS as APHIS worked through many issues involving industry and the States and Tribes. We received valuable feedback from producers, State and Tribal animal health officials, and other interested stakeholders regarding those documents and the NAIS. The Draft User Guide that we then produced to replace the earlier documents represented the most up-to-date general information on the NAIS available at the time of its release.

The Draft User Guide provided comprehensive information about participating in the NAIS. Part I of the document provided a brief overview to familiarize producers with the NAIS, its goals, its organizational components, and other information concerning its ongoing implementation. The remainder of the document discussed each of the NAIS' components in greater detail and provided operational-level “how to” information and resources. Part II of the document provided information about premises registration; Part III of the document discussed the animal identification component of the program; and Part IV of the document detailed the animal tracing component.

When we released the Draft User Guide to the public, we noted that the program would continue to evolve as details were addressed through ongoing dialogue with all stakeholders. Recently, we determined that a revision to the Draft User Guide was needed to reflect changes that have been made in the program in order to prevent confusion among stakeholders about these changes and to provide the most up-to-date information on the status of the NAIS. We are, therefore, now making available to the public for review and comment an updated version of the User Guide. We will accept public comments and stakeholder feedback on the document on an ongoing basis (see ADDRESSES above for commenting instructions). We expect that as the NAIS continues to evolve, so, too, will the User Guide.

The revised document incorporates updates to three of the four parts of the original Draft User Guide. These changes are discussed more fully below.

Part I: Overview of the NAIS

Benefit-cost analysis.

In July 2007, APHIS announced that Kansas State University would be conducting a benefit-cost analysis, with a final report to be completed by July/August 2008. This information has been added to the section of the User Guide that discusses the economic benefits of the NAIS in order to inform our stakeholders that more complete analysis and information will be available in the future.

Animal Identification Number Device Distribution Databases (AIN DDDs).

References to AIN DDDs have been removed from Part I of the User Guide, since the development of these databases is no longer being considered, for reasons discussed in greater detail below.

Part III: Animal Identification

Publication of numbering systems final rule.

On July 18, 2007, APHIS published in the Federal Register (72 FR 39301-39307, Docket No. 04-052-2) a final rule that, among other things, recognized the AIN as an official means for the identification of individual animals in commerce generally and in disease programs. This information has now been added to the User Guide's discussion of the use of the AIN in the NAIS to ensure that participants are aware that the rule was finalized.

Brand State Working Group.

When the Draft User Guide was first developed, the Brand State Working Group had only recently been formed. Additional information about the objectives of the Brand State Working Group has been added to the revised User Guide.

Integration of AIN tags with existing animal health identification systems—brucellosis.

Although several disease programs had begun integrating NAIS-compliant AIN tags when the Draft User Guide was first published, the brucellosis program was listed as one that would be integrating in the near future. AIN tags are now recognized as official for use in the brucellosis program, if preferred by the producer and if such action does not conflict with State regulations. We have added this information to the revised User Guide in order to clarify an issue that has confused some NAIS participants.

AIN DDDs.

Part III of the revised User Guide explains how the distribution records of AIN devices will be administered using the AIN Management System. At the time of publication of the original Draft User Guide, we were considering the use of databases (AIN DDDs) that would be maintained by AIN device manufacturers, industry organizations, service providers, States, etc., to receive and maintain the records of distribution of AIN devices to a premises (the record that indicates what AIN was on each AIN device that went to each premises), as opposed to having the information received by and maintained in our AIN Management System. APHIS had developed potential information technology (IT) solutions and program administrative processes to support the transition to the AIN DDD infrastructure. We held two public meetings (on March 5-6 and on March 12-13, 2007) to discuss these options and to explore further the administrative and IT requirements for such databases to be practical and effective. At those meetings, various sectors of industry, representatives of livestock markets, service providers, and individuals who either are, or are planning to be, AIN tag managers and AIN tag manufacturers all provided feedback expressing significant concerns about the added costs and increased complexity of maintaining records in such databases. Based on this feedback, we determined that this option did not contribute to a practical and efficient system and was not feasible. Therefore, all references to AIN DDDs have been removed from the revised User Guide, and APHIS will continue to maintain distribution records in the AIN Management System, as before.

Part IV: Animal Tracing

Animal Trace Processing System (ATPS).

In March 2007, APHIS completed the interim development of the ATPS—the Federal portal system that will allow Federal and State animal health officials to request information from the administrators of private/State animal tracking databases (ATDs). In addition, working with State and industry partners, we completed the development of the technical requirements necessary for integration of those ATDs with the ATPS. The technical requirements are available online, for use by organizations with ATDs that are interested in participating in this component of the NAIS. Information on this component of the NAIS has been updated in the revised User Guide to ensure that stakeholders are aware of the potential for participation.

Comments about the revised User Guide or other aspects of the NAIS may be submitted to USDA through the NAIS Web site e-mail address: animalidcomments@aphis.usda.gov or by mail to NAIS Program Staff, VS, APHIS, 4700 River Road, Unit 200, Riverdale, MD 20737.

The revised User Guide is considered a “significant guidance document” under the terms of the Office of Management and Budget's (OMB) “Final Bulletin for Agency Good Guidance Practices,” which was published in the Federal Register on January 25, 2007 (72 FR 3432-3440). To learn more about the OMB bulletin and APHIS' implementation of its provisions, visit http://www.aphis.usda.gov/guidance/.

Done in Washington, DC, this 14th day of December 2007.
Kevin Shea,
Acting Administrator, Animal and Plant Health Inspection Service.

[FR Doc. E7-24653 Filed 12-18-07; 8:45 am]

BILLING CODE 3410-34-P